NATIONAL AERONAUTICS AND SPACE ADMINISTRATION

[Notice (15-117)]

Privacy Act of 1974; Privacy Act System of Records

AGENCY: National Aeronautics and Space Administration (NASA).

ACTION: Notice of proposed revisions to an existing Privacy Act system of records and establishment of a new system of records.

SUMMARY: Pursuant to the provisions of the Privacy Act of 1974 (5 U.S.C. 552a), the National Aeronautics and Space Administration is issuing public notice of its proposal to modify a previously noticed system of records and to establish a new system of records. This notice publishes the modified and new systems of records as set forth below under the caption SUPPLEMENTARY INFORMATION.

DATES: Submit comments within 30 calendar days from the date of this publication. The changes will take effect at the end of that period, if no adverse comments are received.

ADDRESSES: Patti F. Stockman, Privacy Act Officer, Office of the Chief Information Officer, National Aeronautics and Space Administration Headquarters, Washington, DC 20546-0001, (202) 358-4787, NASAPAOfficer@nasa.gov.

FOR FURTHER INFORMATION CONTACT: NASA Privacy Act Officer, Patti F. Stockman, (202) 358-4787, NASAPAOfficer@nasa.gov.

SUPPLEMENTARY INFORMATION: Pursuant to the provisions of the Privacy Act of 1974, 5 U.S.C. 552a, and as part of its biennial System of Records review, NASA proposes to modify its existing Equal Opportunity system of records and establish a new system. Specifically, the existing system of records, Equal Opportunity (EO) Records/NASA 10EEOR, is being modified to add a Purpose section, update an Authority, eliminate a redundant Routine Use, and reflect removal of reasonable accommodations records which will constitute the new system of records in this notice, Reasonable Accommodation Records/NASA 10RAR, covering records of all current NASA employees and applicants requesting reasonable accommodation.

Submitted by:
Renee P. Wynn,
NASA Chief Information Officer.

NASA 10EEOR

SYSTEM NAME:

Equal Opportunity (EO) Records.

SECURITY CLASSIFICATION:

None.

SYSTEM LOCATION:

Locations 1-9, 11, 18 and 19, as set forth in Appendix A.

CATEGORIES OF INDIVIDUALS COVERED BY THE SYSTEM:

This system maintains information on current and former employees and applicants for employment who have entered the informal counseling process or who have filed formal complaints.

CATEGORIES OF RECORDS IN THE SYSTEM:

Equal Employment Opportunity (EEO) informal counseling and formal complaint records.

AUTHORITY FOR MAINTENANCE OF THE SYSTEM:

29 U.S.C. 791 et seq.; 51 U.S.C. 20113; 42 U.S.C. 2000ff et seq.; 42 U.S.C. 12101 et seq.; 44 U.S.C. 3101; Exec. Order No. 11478, 3 CFR 803 (1966-1977); 29 CFR pt. 1614; 29 CFR pt. 1635; 5 CFR pts. 1200-1202.

PURPOSE(S):

These records are maintained for the purpose of counseling, investigating and adjudicating complaints of employment discrimination brought by applicants and current and former federal employees against NASA.

ROUTINE USES OF RECORDS MAINTAINED IN THE SYSTEM, INCLUDING CATEGORES OF USERS AND THE PURPOSES OF SUCH USES:

Any disclosures of information will be compatible with the purpose for which the Agency collected the information. Records and information in this system may be disclosed: (1) To the Equal Employment Opportunity Commission (EEOC) and the Merit Systems Protection Board (MSPB) to facilitate their processing of discrimination complaints, including investigations, hearings, and reviews on appeals; (2) to employees of contractors engaged by the Agency to carry out the Agency's responsibilities under 29 CFR part 1614; (3) to complainants, aggrieved persons, potential witnesses, and other individuals as deemed appropriate and necessary to perform the agency's functions under 29 CFR part 1614; (4) to other Federal agencies and other organizations having legal and administrative responsibilities related to the NASA Office of Diversity and Equal Opportunity; (5) to Federal Government officials charged with the responsibility of investigating NASA's compliance with federal equal employment opportunity laws, e.g., Title VII of the Civil Rights Act of 1964; and (6) NASA standard routine uses as set forth in Appendix B.

POLICIES AND PRACTICES FOR STORING, RETRIEVING, ACCESSING, RETAINING, AND DISPOSING OF RECORDS IN THE SYSTEM:

STORAGE:

Records in this system are maintained as hard-copy and electronic documents, and as data within Agency-wide web-based tracking systems.

RETRIEVABILITY:

Hard copy records are retrieved by the complainant's name. Electronic records are accessed by name, case number, nature of the complaint, NASA Center from which complaint originated, or stage of the complaint in the process.

SAFEGUARDS:

Hard copy records are locked in file cabinets or in secured rooms with access limited to those whose official duties require access. Electronic records are maintained on secure NASA servers and protected in accordance with all Federal standards and those established in NASA regulations at 14 CFR 1212.605. Additionally, server and data management environments employ infrastructure encryption technologies both in data transmission and at rest on servers. Electronic messages sent within and outside of the Agency are encrypted and transmitted by staff via pre-approved electronic encryption systems as required by NASA policy. Approved security plans are in place for information systems containing the records in accordance with the Federal Information Security Management Act of 2002 (FISMA) and OMB Circular A-130, Management of Federal Information Resources. Only authorized personnel requiring information in the official discharge of their duties are authorized access to records through approved access or authentication methods. Access to electronic records is achieved only from workstations within the NASA Intranet or via a secure Virtual Private Network (VPN) connection that requires two-factor hardware token authentication or via employee PIV badge authentication from NASA-issued computers or via employee PIV badge authentication from NASA-issued computers.

RETENTION AND DISPOSAL:

Records are maintained in Agency files and destroyed in accordance with NPR 1441.1 NASA Records Retention Schedules, Schedule 3 Item 2.5/E.

SYSTEM MANAGER(S) AND ADDRESS:

Associate Administrator for Diversity and Equal Opportunity, Location 1. Subsystem Managers: Center Equal Opportunity (EO) Directors/Officers, at locations 1-9, 11, 18 and 19, as set forth in Appendix A.

NOTIFICATION PROCEDURE:

Information may be obtained from the cognizant system or subsystem managers listed above.

RECORD ACCESS PROCEDURES:

Requests from individuals should be addressed to the same address as stated in the Notification section above.

CONTESTING RECORD PROCEDURES:

The NASA regulations for access to records and for contesting contents and appealing initial determinations by the individual concerned appear at 14 CFR part 1212.

RECORD SOURCE CATEGORIES:

Individuals themselves; Associate Administrator for Diversity and Equal Opportunity, and all designees, including NASA Center EO Directors; Center complaints managers/coordinators; EEO counselors, specialists, and investigators; EEOC officials and MSPB officials.

NASA 10RAR

SYSTEM NAME:

Reasonable Accommodation (RA) Records.

SECURITY CLASSIFICATION:

None.

SYSTEM LOCATION:

Locations 1-9, 11, 18 and 19, as set forth in Appendix A.

CATEGORIES OF INDIVIDUALS COVERED BY THE SYSTEM:

This system maintains records of requests by NASA employees or applicants for employment who are seeking reasonable accommodation under the Rehabilitation Act of 1973 and also contains the disposition of such requests.

CATEGORIES OF RECORDS IN THE SYSTEM:

Records may include, but are not limited to: requests for reasonable accommodation; medical records; notes or records made during such requests, requests for reconsideration or internal Agency appeals and the disposition of such requests.

AUTHORITY FOR MAINTENANCE OF THE SYSTEM:

29 U.S.C. 791 et seq.; 51 U.S.C. 20113 (a); 42 U.S.C. 12101 et seq.; 44 U.S.C. 3101; Exec. Order No. 11478; Exec. Order No. 13164; and 29 CFR part 1614; 29 CFR part 1630.

PURPOSE:

This system is maintained for the purpose of considering, deciding and implementing requests for reasonable accommodation made by NASA employees and applicants for employment.

ROUTINE USES OF RECORDS MAINTAINED IN THE SYSTEM, INCLUDING CATEGORES OF USERS AND THE PURPOSES OF SUCH USES:

Any disclosures of information will be compatible with the purpose for which the Agency collected the information. Records from this system may be disclosed: (1) To another Federal agency, to a court, or a party in litigation before a court or in an administrative proceeding being conducted by a Federal agency when the Government is a party to the judicial or administrative proceeding; (2) to an authorized appeal grievance examiner, formal complaints examiner, administrative judge, equal employment opportunity investigator, arbitrator or other duly authorized official engaged in investigation or settlement of a grievance, complaint or appeal filed by an employee; (3) to employees of contractors engaged by an agency to carry out the agency's responsibilities under 29 CFR part 1614; (4) to first aid and safety personnel, when appropriate, if the disability might require emergency treatment; (5) to Federal Government officials or any of their assignees charged with the responsibility of investigating NASA's compliance with The Rehabilitation Act of 1973, as amended, or the Genetic Information Nondiscrimination Act of 2008 (GINA); (6) to those outside the Agency who have expertise on the provision of reasonable accommodations to individuals with disabilities; and (5) in accordance with NASA standard routine uses as set forth in Appendix B.

POLICIES AND PRACTICES FOR STORING, RETRIEVING, ACCESSING, RETAINING, AND DISPOSING OF RECORDS IN THE SYSTEM: STORAGE:

Records in this system are maintained in hard-copy and electronically, and within Agency-wide Intranet database and tracking system.

RETRIEVABILITY:

Records in the system are retrieved by name of the employee or applicant requesting accommodation, case identification number, or NASA Center from which request originated.

SAFEGUARDS:

Electronic records are maintained on secure NASA servers and protected in accordance with all Federal standards and those established in NASA regulations at 14 CFR 1212.605. Additionally, server and data management environments employ infrastructure encryption technologies both in data transmission and at rest on servers. Electronic messages sent within and outside of the Agency are encrypted and transmitted by staff via pre-approved electronic encryption systems as required by NASA policy. Approved security plans are in place for information systems containing the records in accordance with the Federal Information Security Management Act of 2002 (FISMA) and OMB Circular A-130, Management of Federal Information Resources. Only authorized personnel requiring information in the official discharge of their duties are authorized access to records through approved access or authentication methods. Access to electronic records is achieved only from workstations within the NASA Intranet or via a secure Virtual Private Network (VPN) connection that requires two-factor hardware token authentication. Non-electronic records are secured in locked rooms or locked file cabinets.

RETENTION AND DISPOSAL:

Records are maintained and destroyed in accordance with NPR 1441.1 NASA Records Retention Schedules, Schedule 3 Item 2.6.

SYSTEM MANAGER(S) AND ADDRESS:

Associate Administrator for Diversity and Equal Opportunity, Location 1.

Subsystem Managers: Director, Complaints Management Division; Center Equal Employment Opportunity (EEO) Directors/Officers, Center Disability Program Managers, at locations 1-9, 11, 18 and 19, as set forth in Appendix A.

NOTIFICATION PROCEDURE:

Information may be obtained from the cognizant system or subsystem managers listed above.

RECORD ACCESS PROCEDURES:

Requests from individuals should be addressed to the same address as stated in the Notification section above.

CONTESTING RECORD PROCEDURES:

The NASA regulations for access to records and for contesting contents and appealing initial determinations by the individual concerned appear at 14 CFR part 1212.

RECORD SOURCE CATEGORIES:

Individuals themselves; Associate Administrator for Diversity and Equal Opportunity, and all designees, including NASA Center EO Directors and Center Disability Program Managers; EEOC officials.

[FR Doc. 2015-32291 Filed 12-22-15; 8:45 am]

BILLING CODE 7510-13-P